DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2010 Census Coverage Measurement—Person Followup & Person Followup Reinterview Operations and Respondent Debriefings.

OMB Control Number: None

Form Number(s): D-1301, D-1301(PR)..

Type of Request: New collection.

Burden Hours: 16,629.

Number of Respondents: 57,776.

Average Hours per Response: Person Followup Intervirews—15 min.; Respondent Debriefings—10 min..

Needs and Uses: The U.S. Census Bureau requests authorization from the Office of Management and Budget (OMB) to conduct the Census Coverage Measurement (CCM) Person Followup (PFU) and Person Followup Reinterview (PFU RI) operations as part of the 2010 Census. Changes were made to this request since the notice was published in the Federal Register (Vol. 74, No. 249, 69061, December 30, 2009). Respondent debriefings of the CCM Person Interview (PI) and CCM PFU have been added. These are to be conducted as part of a CCM evaluation. Details of this evaluation were not yet available at the time of this notice or in time to include in the CCM PI OMB package.

The CCM program will provide estimates of net coverage error and components of census coverage (including omissions and erroneous enumerations) for housing units and persons in housing units (see Definition of Terms in Part B, Collections of Information Employing Statistical Methods). The data collection and matching methodologies for previous coverage measurement programs were designed only to measure net coverage error.

The 2010 CCM will be comprised of two samples selected to measure census coverage of housing units and the household population: The population sample (P sample) and the enumeration sample (E sample). The primary sampling unit is a block cluster, which consists of one or more contiguous census blocks. The P sample is a sample of housing units and persons obtained independently from the census for a sample of block clusters. The E sample is a sample of census housing units and enumerations in the same block cluster as the P sample. The PFU operation will contain approximately 57,776 sample addresses. The PFU RI Operation will be a sample of those cases with an estimate 8,667 sample addresses.

The paper PFU questionnaire will be used to collect address and dates of stay information for persons selected for followup to verify their residence on Census Day (April 1, 2010) and on the day of the CCM Person Interview for that household. PFU will also contain questions to resolve match and duplication status discrepancies between the CCM Person Interview and the Census.

We also will conduct a quality control operation called PFU Reinterview (PFU RI) on 15 percent of the PFU cases. The purpose of the operation is to confirm that the PFU enumerator conducted a PFU interview with an actual household member or a valid proxy respondent and to conduct a full PFU interview when falsification is suspected.

In addition to the CCM PFU and PFU RI operations, respondent debriefings of the CCM Person Interview (PI) and CCM PFU will be conducted. The purpose of the respondent debriefings is to obtain a qualitative gauge of how well the PI and PFU instruments performed the tasks they were designed to accomplish, those being to capture members of the household and assign usual residence. Census Residence Rules experts will observe approximately 220 PI and PFU personal visit interviews and ask respondent debriefing questions at approximately 110 households (80 PI households and 30 PFU households). They will clarify or verify the usual residence of the persons listed and other persons who should have been counted. The experts will audiotape all observed interviews and debriefings of respondents if permission is given by the respondent. These audiotapes are for use in evaluations.

Affected Public: Individuals or households.

Frequency: One time.

Respondent's Obligation: Mandatory (participation in debriefings is voluntary).

Legal Authority: Title 13 U.S.C., Sections 141 and 193.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or email (bharrisk@omb.eop.gov).

Dated: May 28, 2010.
Glenna Mickelson,
Management Analyst, Office of the Chief Information Officer.

[FR Doc. 2010-13354 Filed 6-2-10; 8:45 am]

BILLING CODE 3510-07-P